DEPARTMENT OF THE INTERIOR

Bureau of Indian Affairs

[201A2100DD/AAKC001030/A0A501010.999900253G]

Indian Gaming; Approval of Tribal-State Class III Gaming Compact Amendment in the State of Oregon

AGENCY: Bureau of Indian Affairs, Interior.

ACTION: Notice.

SUMMARY: The State of Oregon entered into a compact amendment with the Coquille Tribe of Indians governing certain forms of class III gaming; this notice announces the approval of Amendment III to the Amended and Restated Tribal-State Compact for Regulation of Class III Gaming between the Coquille Tribe of Indians and the State of Oregon.

DATES: This amendment takes effect May 20, 2020.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts are subject to review and approval by the Secretary. The Amendment changes the definition of video lottery terminal to reflect updated standards and adds a new subsection to the compact providing procedures for the Tribe to offer new video lottery terminals.

Tara Sweeney,
Assistant Secretary—Indian Affairs.

[FR Doc. 2020-10823 Filed 5-19-20; 8:45 am]

BILLING CODE 4337-15-P